SECURITIES AND EXCHANGE COMMISSION

[File No. 500-1]

The JPM Company, and Tidalwave Holdings, Inc.; Order of Suspension of Trading

January 13, 2009.

It appears to the Securities and Exchange Commission that there is a lack of current and accurate information concerning the securities of The JPM Company because it has not filed any periodic reports since the period ended June 30, 2001.

It appears to the Securities and Exchange Commission that there is a lack of current and accurate information concerning the securities of Tidalwave Holdings, Inc. because it has not filed any periodic reports since the period ended December 31, 2000.

The Commission is of the opinion that the public interest and the protection of investors require a suspension of trading in the securities of the above-listed companies.

Therefore, it is ordered, pursuant to Section 12(k) of the Securities Exchange Act of 1934, that trading in the securities of the above-listed companies is suspended for the period from 9:30 a.m. EST on January 13, 2009, through 11:59 p.m. EST on January 27, 2009.

By the Commission.
Elizabeth M. Murphy,
Secretary.

[FR Doc. E9-904 Filed 1-13-09; 4:15 pm]

BILLING CODE 8011-01-P